DEPARTMENT OF ENERGY

Federal Energy Regulatory Commission

Combined Notice of Filings #1

Take notice that the Commission received the following electric corporate filings:

Docket Numbers: EC11-86-000.

Applicants: Shirley Wind, LLC, Shirley Wind (Delaware), LLC, DEGS Wind I, LLC.

Description: Application for Order Authorizing Disposition of Jurisdictional Facilities under Section 203 of the Federal Power Act of Shirley Wind, LLC, Shirley Wind (Delaware), LLC, and DEGS Wind I, LLC.

Filed Date: 06/03/2011.

Accession Number: 20110603-5239.

Comment Date: 5 p.m. Eastern Time on Friday, June 24, 2011.

Docket Numbers: EC11-87-000.

Applicants: Lakefield Wind Project, LLC, LWP Lessee, LLC.

Description: Joint Application of Lakefield Wind Project, LLC, and LWP Lessee, LLC for Authorization under Section 203 of the Federal Power Act and Request for Expedited Consideration.

Filed Date: 06/03/2011.

Accession Number: 20110603-5308.

Comment Date: 5 p.m. Eastern Time on Friday, June 24, 2011.

Take notice that the Commission received the following exempt wholesale generator filings:

Docket Numbers: EG11-88-000.

Applicants: Tanner Street Generation, LLC.

Description: Notice of Self-Certification of Exempt Wholesale Generator Status of Tanner Street Generation, LLC.

Filed Date: 05/31/2011.

Accession Number: 20110531-5213.

Comment Date: 5 p.m. Eastern Time on Tuesday, June 21, 2011.

Docket Numbers: EG11-89-000.

Applicants: LWP Lessee, LLC.

Description: Notice of Self-Certification of Exempt Wholesale Generator Status of LWP Lessee, LLC.

Filed Date: 06/03/2011.

Accession Number: 20110603-5244.

Comment Date: 5 p.m. Eastern Time on Friday, June 24, 2011.

Take notice that the Commission received the following electric rate filings:

Docket Numbers: ER07-1356-018; ER07-1112-017; ER07-1113-018; ER07-1116-016; ER07-1117-019; ER07-1358-020; ER07-1118-017; ER00-2885-037; ER01-2765-036; ER09-609-009; ER09-1141-016; ER05-1232-036; ER02-2102-036; ER03-1283-027.

Applicants: BE Alabama LLC, BE Allegheny LLC, BE CA LLC, BE Ironwood LLC, BE KJ LLC, BE Louisiana LLC, BE Rayle LLC, Cedar Brakes I, L.L.C., Cedar Brakes II, L.L.C., Centra Power & Lime, LLC, J.P. Morgan Commodities Canada Corporation, J.P. Morgan Ventures Energy Corporation, Utility Contract Funding, L.L.C., Vineland Energy LLC.

Description: JPMorgan Sellers Notice of Non-Material Change in Status re: Penta Wind, LLC under ER07-1356, et al.

Filed Date: 05/31/2011.

Accession Number: 20110531-5240.

Comment Date: 5 p.m. Eastern Time on Tuesday, June 21, 2011.

Docket Numbers: ER10-78-003.

Applicants: Orange Grove Energy, L.P.

Description: J-Power North America Holding Co., Ltd. Notification of Non-Material Change in Status.

Filed Date: 05/31/2011.

Accession Number: 20110531-5241.

Comment Date: 5 p.m. Eastern Time on Tuesday, June 21, 2011.

Docket Numbers: ER10-2631-001; ER10-2632-001.

Applicants: Tiverton Power Inc., Rumford Power Inc.

Description: Notice of Change in Status Regarding Market-Based Rate Authority of Rumford Power Inc., et al.

Filed Date: 06/03/2011.

Accession Number: 20110603-5294.

Comment Date: 5 p.m. Eastern Time on Friday, June 24, 2011.

Docket Numbers: ER11-1981-001.

Applicants: Alcan Power Marketing, Inc.

Description: Amendment to April 8, 2011 Filing of Alcan Power Marketing, Inc.

Filed Date: 06/03/2011.

Accession Number: 20110603-5223.

Comment Date: 5 p.m. Eastern Time on Friday, June 24, 2011.

Docket Numbers: ER11-2054-002.

Applicants: Ameren Illinois Company.

Description: Ameren Illinois Company submits tariff filing per 35: Compliance Filing for Ameren Illinois—Rate Schedule 112 to be effective 6/4/2011.

Filed Date: 06/03/2011.

Accession Number: 20110603-5005.

Comment Date: 5 p.m. Eastern Time on Friday, June 24, 2011.

Docket Numbers: ER11-2093-002.

Applicants: Ameren Illinois Company.

Description: Ameren Illinois Company submits tariff filing per 35: Compliance Filing for Ameren Illinois—Rate Schedules 102, 103, 116 to be effective 6/4/2011.

Filed Date: 06/03/2011.

Accession Number: 20110603-5006.

Comment Date: 5 p.m. Eastern Time on Friday, June 24, 2011.

Docket Numbers: ER11-2148-001.

Applicants: Ameren Illinois Company.

Description: Ameren Illinois Company submits tariff filing per 35: Compliance Filing for Ameren Illinois—Rate Scheds 100, 104, 106, 109, 111, 118 to be effective 6/3/2011.

Filed Date: 06/03/2011.

Accession Number: 20110603-5007.

Comment Date: 5 p.m. Eastern Time on Friday, June 24, 2011.

Docket Numbers: ER11-2180-001.

Applicants: Ameren Illinois Company.

Description: Ameren Illinois Company submits tariff filing per 35: Compliance Filing for Ameren Illinois—Rate Schedules 107, 117, 121, 122 to be effective 6/4/2011.

Filed Date: 06/03/2011.

Accession Number: 20110603-5008.

Comment Date: 5 p.m. Eastern Time on Friday, June 24, 2011.

Docket Numbers: ER11-2184-001.

Applicants: Ameren Illinois Company.

Description: Ameren Illinois Company submits tariff filing per 35: Compliance Filing for Ameren Illinois—Rate Schedules 105, 110, 131 to be effective 6/4/2011.

Filed Date: 06/03/2011.

Accession Number: 20110603-5011.

Comment Date: 5 p.m. Eastern Time on Friday, June 24, 2011.

Docket Numbers: ER11-3679-000.

Applicants: Duke Energy Indiana, Inc.

Description: Notice of Cancellation of Duke Energy Corporation.

Filed Date: 06/03/2011.

Accession Number: 20110603-5331.

Comment Date: 5 p.m. Eastern Time on Friday, June 24, 2011.

Docket Numbers: ER11-3695-000.

Applicants: PJM Interconnection, L.L.C.

Description: PJM Interconnection, L.L.C. submits tariff filing per 35.13(a)(2)(iii: Errata to the PJM Tariff Attachment DD Section 8.4, to be effective 2/1/2011.

Filed Date: 06/03/2011.

Accession Number: 20110603-5002.

Comment Date: 5 p.m. Eastern Time on Friday, June 24, 2011.

Docket Numbers: ER11-3696-000.

Applicants: PJM Interconnection, L.L.C.

Description: PJM Interconnection, L.L.C. submits tariff filing per 35.13(a)(2)(iii: Quarterly Updates to PJM Operating Agreement and RAA Membership List, to be effective 6/1/2011.

Filed Date: 06/03/2011.

Accession Number: 20110603-5003.

Comment Date: 5 p.m. Eastern Time on Friday, June 24, 2011.

Docket Numbers: ER11-3697-000.

Applicants: Southern California Edison Company.

Description: Southern California Edison Company submits tariff filing per 35.13(a)(1): Transmission Owner Tariff Transmission Rate Filing (TO6), to be effective 8/1/2011.

Filed Date: 06/03/2011.

Accession Number: 20110603-5004.

Comment Date: 5 p.m. Eastern Time on Friday, June 24, 2011.

Docket Numbers: ER11-3698-000.

Applicants: ISO New England Inc.

Description: ISO New England Inc. submits tariff filing per 35.13(a)(2)(iii: Filing of Chges. Related to Participant Affiliates to be effective 8/2/2011.

Filed Date: 06/03/2011.

Accession Number: 20110603-5013.

Comment Date: 5 p.m. Eastern Time on Friday, June 24, 2011.

Docket Numbers: ER11-3699-000.

Applicants: Power Exchange Corporation.

Description: Power Exchange Corporation submits tariff filing per 35.15: Power Exchange Corporation MBR Cancellation to be effective 6/6/2011.

Filed Date: 06/03/2011.

Accession Number: 20110603-5016.

Comment Date: 5 p.m. Eastern Time on Friday, June 24, 2011.

Docket Numbers: ER11-3700-000.

Applicants: California Independent System Operator Corporation.

Description: California Independent System Operator Corporation submits tariff filing per 35: 2011-06-03 CAISO's Tariff Waiver Filing to be effective N/A.

Filed Date: 06/03/2011.

Accession Number: 20110603-5017.

Comment Date: 5 p.m. Eastern Time on Friday, June 24, 2011.

Docket Numbers: ER11-3701-000.

Applicants: PJM Interconnection, L.L.C.

Description: PJM Interconnection, L.L.C. submits tariff filing per 35.13(a)(2)(iii: Queue No. W2-083; Original Service Agreement No. 2930 to be effective 5/10/2011.

Filed Date: 06/03/2011.

Accession Number: 20110603-5018.

Comment Date: 5 p.m. Eastern Time on Friday, June 24, 2011.

Docket Numbers: ER11-3702-000.

Applicants: PJM Interconnection, L.L.C.

Description: PJM Interconnection, L.L.C. submits tariff filing per 35.13(a)(2)(iii: Queue No. W2-088; Original Service Agreement No. 2929 to be effective 5/10/2011.

Filed Date: 06/03/2011.

Accession Number: 20110603-5019.

Comment Date: 5 p.m. Eastern Time on Friday, June 24, 2011.

Docket Numbers: ER11-3703-000.

Applicants: Midwest Independent Transmission System Operator, Inc.

Description: Midwest Independent Transmission System Operator, Inc. submits tariff filing per 35.13(a)(2)(iii: Cancellation MISO-EKPC Redispatch Agreement to be effective 8/1/2011.

Filed Date: 06/03/2011.

Accession Number: 20110603-5022.

Comment Date: 5 p.m. Eastern Time on Friday, June 24, 2011.

Docket Numbers: ER11-3704-000.

Applicants: Midwest Independent Transmission System Operator, Inc.

Description: Midwest Independent Transmission System Operator, Inc. submits tariff filing per 35.13(a)(2)(iii: TOs Attachment O and MM Filing to be effective 7/1/2011.

Filed Date: 06/03/2011.

Accession Number: 20110603-5023.

Comment Date: 5 p.m. Eastern Time on Friday, June 24, 2011.

Docket Numbers: ER11-3705-000.

Applicants: PJM Interconnection, L.L.C.

Description: PJM Interconnection, L.L.C. submits tariff filing per 35.13(a)(2)(iii: Queue No. W1-132; Original Service Agreement No. 2936 to be effective 5/10/2011.

Filed Date: 06/03/2011.

Accession Number: 20110603-5024.

Comment Date: 5 p.m. Eastern Time on Friday, June 24, 2011.

Docket Numbers: ER11-3706-000.

Applicants: Wisconsin Electric Power Company.

Description: Notice of Cancellation of Wisconsin Electric Power Company.

Filed Date: 05/31/2011.

Accession Number: 20110531-5199.

Comment Date: 5 p.m. Eastern Time on Tuesday, June 21, 2011.

Docket Numbers: ER11-3707-000.

Applicants: Wisconsin Electric Power Company.

Description: Notice of Cancellation of Wisconsin Electric Power Company.

Filed Date: 05/31/2011.

Accession Number: 20110531-5200.

Comment Date: 5 p.m. Eastern Time on Tuesday, June 21, 2011.

Docket Numbers: ER11-3708-000.

Applicants: PJM Interconnection, L.L.C.

Description: PJM Interconnection, L.L.C. submits tariff filing per 35.13(a)(2)(iii: Queue No. W2-091; Original Service Agreement No. 2931 to be effective 5/10/2011.

Filed Date: 06/03/2011.

Accession Number: 20110603-5036.

Comment Date: 5 p.m. Eastern Time on Friday, June 24, 2011.

Docket Numbers: ER11-3709-000.

Applicants: PacifiCorp.

Description: PacifiCorp submits tariff filing per 35.13(a)(2)(iii: Deseret Control Area Services Agreement to be effective 7/31/2011.

Filed Date: 06/03/2011.

Accession Number: 20110603-5040.

Comment Date: 5 p.m. Eastern Time on Friday, June 24, 2011.

Docket Numbers: ER11-3710-000.

Applicants: Southwest Power Pool, Inc.

Description: Southwest Power Pool, Inc. submits tariff filing per 35.13(a)(2)(iii: Amendment to Attachment AE of the Tariff, to be effective 12/1/2011.

Filed Date: 06/03/2011.

Accession Number: 20110603-5041.

Comment Date: 5 p.m. Eastern Time on Friday, June 24, 2011.

Docket Numbers: ER11-3711-000.

Applicants: Southwest Power Pool, Inc.

Description: Southwest Power Pool, Inc. submits tariff filing per 35.13(a)(2)(iii: Incorporation of Tri-County Electric Cooperative Formula Rate Template to be effective 8/1/2011.

Filed Date: 06/03/2011.

Accession Number: 20110603-5043.

Comment Date: 5 p.m. Eastern Time on Friday, June 24, 2011.

Docket Numbers: ER11-3712-000.

Applicants: Florida Power & Light Company.

Description: Florida Power & Light Company submits tariff filing per 35.12: FPL and Seminole Electric Cooperative, Inc. Service Agreement No. 223 to be effective 8/2/2011.

Filed Date: 06/03/2011.

Accession Number: 20110603-5045.

Comment Date: 5 p.m. Eastern Time on Friday, June 24, 2011.

Docket Numbers: ER11-3713-000.

Applicants: California Independent System Operator Corporation.

Description: California Independent System Operator Corporation submits tariff filing per 35: 2011-06-03 CAISO's BCR Tariff Waiver Filing to be effective N/A.

Filed Date: 06/03/2011.

Accession Number: 20110603-5046.

Comment Date: 5 p.m. Eastern Time on Friday, June 24, 2011.

Docket Numbers: ER11-3714-000.

Applicants: Bridgeport Energy, LLC.

Description: Bridgeport Energy, LLC submits tariff filing per 35: Bridgeport Energy LLC to be effective 4/29/2011.

Filed Date: 06/03/2011.

Accession Number: 20110603-5049.

Comment Date: 5 p.m. Eastern Time on Friday, June 24, 2011.

Docket Numbers: ER11-3715-000.

Applicants: Morris Cogeneration, LLC.

Description: Morris Cogeneration, LLC submits tariff filing per 35: Morris Cogeneration, LLC's Notice of Change in Status Market-Based Rate Filing to be effective 4/29/2011.

Filed Date: 06/03/2011.

Accession Number: 20110603-5050.

Comment Date: 5 p.m. Eastern Time on Friday, June 24, 2011.

Docket Numbers: ER11-3716-000.

Applicants: Manchief Power Company LLC.

Description: Manchief Power Company LLC submits tariff filing per 35: Manchief Power Company LLC's Notice of Change in Status Market-Based Rate Filing to be effective 4/29/2011.

Filed Date: 06/03/2011.

Accession Number: 20110603-5058.

Comment Date: 5 p.m. Eastern Time on Friday, June 24, 2011.

Docket Numbers: ER11-3717-000.

Applicants: Frederickson Power L.P.

Description: Frederickson Power L.P. submits tariff filing per 35: Frederickson Power L.P.'s Notice of Change in Status Market-Based Rate Filing to be effective 4/29/2011.

Filed Date: 06/03/2011.

Accession Number: 20110603-5064.

Comment Date: 5 p.m. Eastern Time on Friday, June 24, 2011.

Docket Numbers: ER11-3718-000.

Applicants: CPIDC, Inc.

Description: CPIDC, Inc. submits tariff filing per 35: CPIDC, Inc.'s Notice of Change in Status Market-Based Rate Filing to be effective 4/29/2011.

Filed Date: 06/03/2011.

Accession Number: 20110603-5072.

Comment Date: 5 p.m. Eastern Time on Friday, June 24, 2011.

Docket Numbers: ER11-3719-000.

Applicants: Kansas City Power & Light Company.

Description: Kansas City Power & Light Company submits tariff filing per 35.13(a)(2)(iii: KCP&L Rate Schedule 135 to be effective 8/1/2011.

Filed Date: 06/03/2011.

Accession Number: 20110603-5075.

Comment Date: 5 p.m. Eastern Time on Friday, June 24, 2011.

Docket Numbers: ER11-3720-000.

Applicants: CPI USA North Carolina LLC.

Description: CPI USA North Carolina LLC submits tariff filing per 35: CPI USA North Carolina LLC's Notice of Change in Status Market-Based Rate Filing to be effective 4/29/2011.

Filed Date: 06/03/2011.

Accession Number: 20110603-5078.

Comment Date: 5 p.m. Eastern Time on Friday, June 24, 2011.

Docket Numbers: ER11-3721-000.

Applicants: Westar Energy, Inc.

Description: Westar Energy, Inc. submits tariff filing per 35.13(a)(2)(iii: City of Arma, Kansas to be effective 5/1/2011.

Filed Date: 06/03/2011.

Accession Number: 20110603-5082.

Comment Date: 5 p.m. Eastern Time on Friday, June 24, 2011.

Docket Numbers: ER11-3722-000.

Applicants: Westar Energy, Inc.

Description: Westar Energy, Inc. submits tariff filing per 35.13(a)(2)(iii: Burlingame, KS & Osage City, KS to be effective 5/1/2011.

Filed Date: 06/03/2011.

Accession Number: 20110603-5086.

Comment Date: 5 p.m. Eastern Time on Friday, June 24, 2011.

Docket Numbers: ER11-3723-000.

Applicants: TrueLight Energy, LLC.

Description: TrueLight Energy, LLC submits tariff filing per 35.12: TrueLight Energy MBRA Application to be effective 7/1/2011.

Filed Date: 06/03/2011.

Accession Number: 20110603-5154.

Comment Date: 5 p.m. Eastern Time on Friday, June 24, 2011.

Docket Numbers: ER11-3724-000.

Applicants: TrueLight Commodities, LLC.

Description: TrueLight Commodities, LLC submits tariff filing per 35.12: TrueLight Commodities MBRA Application to be effective 7/1/2011.

Filed Date: 06/03/2011.

Accession Number: 20110603-5157.

Comment Date: 5 p.m. Eastern Time on Friday, June 24, 2011.

Docket Numbers: ER11-3728-000.

Applicants: Midwest Independent Transmission System Operator, Inc.

Description: Midwest Independent Transmission System Operator, Inc. Section 205 Filing to Seek Transitional Waiver of Provisions of its Tariff.

Filed Date: 06/03/2011.

Accession Number: 20110603-5328.

Comment Date: 5 p.m. Eastern Time on Friday, June 24, 2011.

Take notice that the Commission received the following electric securities filings:

Docket Numbers: ES11-36-000.

Applicants: The United Illuminating Company.

Description: Application of The United Illuminating Company for Authorization Under Section 204 of the Federal Power Act to Issue Short-Term Debt and Request for Expedited Treatment.

Filed Date: 06/03/2011.

Accession Number: 20110603-5125.

Comment Date: 5 p.m. Eastern Time on Friday, June 24, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: June 6, 2011.
Nathaniel J. Davis, Sr.,
Deputy Secretary.

[FR Doc. 2011-15549 Filed 6-21-11; 8:45 am]

BILLING CODE 6717-01-P